DEPARTMENT OF ENERGY

Federal Energy Regulatory Commission

Combined Notice of Filings #1

Take notice that the Commission received the following electric rate filings:

Docket Numbers: ER12-1179-003.

Applicants: Southwest Power Pool, Inc.

Description: Integrated Marketplace Compliance Filing to be effective 3/1/2014.

Filed Date: 2/15/13.

Accession Number: 20130215-5167.

Comments Due: 5 p.m. ET 3/8/13.

Docket Numbers: ER13-940-000.

Applicants: Midwest Independent Transmission System Operator, Inc.

Description: Midwest Independent Transmission System Operator, Inc. submits Notice of Termination of Generator Interconnection Agreement No. 1983 for Project G590.

Filed Date: 2/15/13.

Accession Number: 20130215-5091.

Comments Due: 5 p.m. ET 3/8/13.

Docket Numbers: ER13-941-000.

Applicants: San Diego Gas & Electric Company.

Description: SDGE Transmission Owner Tariff TO4 Formula to be effective 9/1/2013.

Filed Date: 2/15/13.

Accession Number: 20130215-5156.

Comments Due: 5 p.m. ET 3/8/13.

Docket Numbers: ER13-942-000.

Applicants: Pacific Gas and Electric Company.

Description: Amendment to Lathrop Irrigation District IA and WDT SA No. 23 to be effective 2/18/2013.

Filed Date: 2/15/13.

Accession Number: 20130215-5159.

Comments Due: 5 p.m. ET 3/8/13.

Docket Numbers: ER13-943-000.

Applicants: Pacific Gas and Electric Company.

Description: CCSF IA—2013 Annual Adjustment to Traffic Light Costs to be effective 2/1/2013.

Filed Date: 2/15/13.

Accession Number: 20130215-5162.

Comments Due: 5 p.m. ET 3/8/13.

Docket Numbers: ER13-944-000.

Applicants: Ohio Valley Electric Corporation.

Description: Pro Forma SGIP (Attachment O) and SGIA (Attachment P) to be effective 9/3/2010.

Filed Date: 2/15/13.

Accession Number: 20130215-5163.

Comments Due: 5 p.m. ET 3/8/13.

Docket Numbers: ER13-945-000.

Applicants: Midwest Independent Transmission System Operator, Inc., Entergy Services, Inc.

Description: 02-15-13 Entergy Attach P to be effective 12/19/2013.

Filed Date: 2/15/13.

Accession Number: 20130215-5166.

Comments Due: 5 p.m. ET 3/8/13.

Docket Numbers: ER13-946-000.

Applicants: Avista Corporation.

Description: Avista Corp Cancellation of KEC Unsigned SA to be effective 2/19/2013.

Filed Date: 2/19/13.

Accession Number: 20130219-5004.

Comments Due: 5 p.m. ET 3/12/13.

Docket Numbers: ER13-947-000.

Applicants: Alabama Power Company.

Description: Mobile Energy (Hog Bayou) Interconnection Agreement Amendment Filing to be effective 1/18/2013.

Filed Date: 2/19/13.

Accession Number: 20130219-5006.

Comments Due: 5 p.m. ET 3/12/13.

Docket Numbers: ER13-948-000.

Applicants: Entergy Services, Inc., Midwest Independent Transmission System Operator, Inc.

Description: Entergy Services, Inc., et. al. submits Attachment O Templates to MISO Open Access Transmission, Energy and Operating Reserve Markets Tariff on behalf of Entergy Arkansas, Inc., et al.

Filed Date: 2/15/13.

Accession Number: 20130215-5187.

Comments Due: 5 p.m. ET 3/8/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 19, 2013.
Nathaniel J. Davis, Sr.,
Deputy Secretary.

[FR Doc. 2013-04431 Filed 2-26-13; 8:45 am]

BILLING CODE 6717-01-P